DEPARTMENT OF COMMERCE

International Trade Administration

[A-533-877]

Stainless Steel Flanges From India: Preliminary Results of Antidumping Duty Administrative Review, Preliminary Successor-in-Interest Determination, and Partial Rescission; 2019-2020

AGENCY: Enforcement and Compliance, International Trade Administration, Department of Commerce.

SUMMARY: The Department of Commerce (Commerce) preliminarily finds that certain producers/exporters of stainless steel flanges (flanges) from India made sales of subject merchandise in the United States at prices below normal value (NV) during the period of review (POR), October 1, 2019, through September 30, 2020. We preliminarily find that BFN Forgings Private Limited (BFN Forgings) is the successor-in-interest to Bebitz Flanges Works Private Limited (Bebitz Flanges). Finally, we are rescinding this review with respect to 38 companies. We invite interested parties to comment on these preliminary results.

DATES: Applicable November 4, 2021.

FOR FURTHER INFORMATION CONTACT: Benito Ballesteros or Christopher Maciuba, AD/CVD Operations, Office V, Enforcement and Compliance, International Trade Administration, Department of Commerce, 1401 Constitution Avenue NW, Washington, DC 20230; telephone: (202) 482-4725 or (202) 482-0413, respectively.

SUPPLEMENTARY INFORMATION:

Background

On December 8, 2020, Commerce initiated an administrative review of the antidumping duty order on flanges from India, in accordance with section 751(a) of the Tariff Act of 1930, as amended (the Act).¹ This administrative review covers 19 companies,² including the mandatory respondents Chandan Steel Limited (Chandan) and Kisaan Die Tech Private Limited (KDT).³ On June 24, 2021, we extended the deadline for the preliminary results until October 29, 2021.⁴ For details regarding the events that occurred subsequent to the initiation of this review, see the Preliminary Decision Memorandum.⁵ A list of topics included in the Preliminary Decision Memorandum is included as an appendix to this notice. The Preliminary Decision Memorandum is a public document and is made available to the public via Enforcement and Compliance's Antidumping and Countervailing Duty Centralized Electronic Service System (ACCESS). ACCESS is available to registered users at http://access.trade.gov. In addition, a complete version of the Preliminary Decision Memorandum is available at https://access.trade.gov/public/FRNoticesListLayout.aspx.

¹ See Initiation of Antidumping and Countervailing Duty Administrative Reviews, 85 FR 78990 (December 8, 2020) (Initiation Notice).

² Although we initiated a review of the companies “Jay Jagdamba Limited” and “Jay Jagdamba Ltd.,” we are treating these companies as the same entity for purposes of this segment of the proceeding. See Initiation Notice. Additionally, we preliminary find BFN Forgings to be the successor-in-interest to Bebitz Flanges. For further discussion, see the section “Preliminary Successor-in-Interest Determination” below.

³ We referred to this company in the Initiation Notice as “Kisaan Die Tech.” The company's full name is Kisaan Die Tech Private Limited.

⁴ See Memorandum, “Stainless Steel Flanges from India: Extension of Deadline for Preliminary Results of Antidumping Duty Administrative Review, 2019-2020,” dated June 24, 2021.

⁵ See Memorandum, “Decision Memorandum for the Preliminary Results of the Antidumping Duty Administrative Review of Stainless Steel Flanges from India; 2019-2020,” dated concurrently with, and hereby adopted by, this notice (Preliminary Decision Memorandum).

Scope of the Order

The merchandise covered by the Order is stainless steel flanges from India.⁶ For a full description of the scope, see the Preliminary Decision Memorandum.

⁶ See Stainless Steel Flanges from India: Antidumping Duty Order, 83 FR 50639 (October 9, 2018) (Order).

Preliminary Successor-in-Interest Determination

BFN Forgings reported that, during the POR, it changed its name from “Bebitz Flanges Works Private Limited” to “BFN Forgings Private Limited.” Based on our analysis of the information on the record regarding any changes with respect to corporate structure, manufacturing facilities, customers, and suppliers, we preliminarily determine that BFN Forgings is the successor-in-interest to Bebitz Flanges, and, as a result, should be accorded the same treatment previously accorded to Bebitz Flanges. For further discussion, see the Preliminary Decision Memorandum at “Preliminary Successor-In-Interest Determination.”

Partial Rescission of Administrative Review

Pursuant to 19 CFR 351.213(d)(1), Commerce will rescind an administrative review, in whole or in part, if a party who requested the review withdraws the request within 90 days of the date of the date of publication of notice of initiation of the requested review. On March 8, 2021, the Coalition of American Flange Producers (the petitioner) timely withdrew its request for an administrative review for 38 companies. No other party requested a review of these companies. For a complete list of the companies for which we are rescinding this review, see Appendix II. Accordingly, we are rescinding this review with respect to these companies, pursuant to 19 CFR 351.213(d)(1).

Rate for Non-Selected Companies

The Act and Commerce's regulations do not address the rate to be applied to companies not selected for individual examination when Commerce limits its examination in an administrative review pursuant to section 777A(c)(2) of the Act. Generally, Commerce looks to section 735(c)(5) of the Act, which provides instructions for calculating the all-others rate in a less-than-fair value (LTFV) investigation, for guidance when calculating the rate for companies which were not selected for individual examination in an administrative review. Under section 735(c)(5)(A) of the Act, the all-others rate is normally “an amount equal to the weighted average of the estimated weighted average dumping margins established for exporters and producers individually investigated, excluding any zero or de minimis margins, and any margins determined entirely {on the basis of facts available}.” We preliminarily calculated a 5.78 percent dumping margin for Chandan and a 1.18 percent dumping margin for KDT, the mandatory respondents in this review, and we have assigned to the non-selected companies a rate of 5.28 percent, which is the weighted-average of Chandan's and KDT's margins based on publicly ranged data.⁷ For additional information, see the Preliminary Decision Memorandum at “Rates for Non-Selected Companies.”

⁷ See, e.g., Xanthan Gum from the People's Republic of China: Preliminary Results of the Antidumping Duty Administrative Review, and Partial Rescission; 2018-2019, 85 FR 75686, 74687 (November 23, 2020), unchanged in Xanthan Gum from the People's Republic of China: Final Results of Antidumping Duty Administrative Review; 2018-2019, 86 FR 16189 (March 26, 2021); Albemarle Corp. v. United States, 821 F. 3d 1345 (Fed. Cir. 2016); and Emulsion Styrene-Butadiene Rubber from the Republic of Korea: Preliminary Results of the Administrative Review of the Antidumping Duty Order; 2018-2019, 85 FR 39534 (July 1, 2020), unchanged in Emulsion Styrene-Butadiene Rubber From the Republic of Korea: Final Results of the Administrative Review of the Antidumping Duty Order; 2018-2019, 85 FR 67512 (October 23, 2020); see also Memorandum, “Preliminary Results of the Antidumping Duty Administrative Review of Stainless Steel Flanges from India: Calculation of Margin for Respondents Not Selected for Individual Examination,” dated October 29, 2021.

Methodology

Commerce is conducting this review in accordance with section 751(a)(1) and (2) of the Act. We calculated export price and constructed export price in accordance with section 772 of the Act. We calculated NV in accordance with section 773 of the Act. For a full description of the methodology underlying these preliminary results, see the Preliminary Decision Memorandum.

Preliminary Results of Review

We preliminarily determine the following weighted-average dumping margins exist for the period October 1, 2019, through September 30, 2020:

⁸ See Appendix III for a full list of companies not individually examined in this review.

Exporter/producer | Weighted- average dumping margin (percent)
Chandan Steel Limited | 5.78
Kisaan Die Tech Private Limited | 1.18
Companies Not Individually Examined ⁸ | 5.28

Assessment Rates

Upon completion of the final results of this administrative review, Commerce shall determine, and U.S. Customs and Border Protection (CBP) shall assess, antidumping duties on all appropriate entries.

Pursuant to 19 CFR 351.212(b)(1), because the individually-examined respondents reported the entered value for their U.S. sales, we will calculate importer-specific ad valorem antidumping duty assessment rates based on the ratio of the total amount of antidumping duties calculated for the examined sales to the total entered value of those same sales. Where either the respondent's weighted-average dumping margin is zero or de minimis within the meaning of 19 CFR 351.106(c), or an importer-specific rate is zero or de minimis, we will instruct CBP to liquidate the appropriate entries without regard to antidumping duties.

In accordance with Commerce's “automatic assessment” practice, for entries of subject merchandise during the POR produced by each respondent for which the company did not know that the merchandise was destined for the United States, we will instruct CBP to liquidate those entries at the all-others rate established in the original LTFV investigation (i.e., 7.00 percent) ⁹ if there is no rate for the intermediate company(ies) involved in the transaction.¹⁰

⁹ See Stainless Steel Flanges from India: Notice of Court Decision Not in Harmony with the Final Determination of Antidumping Investigation; Notice of Amended Final Determination, 86 FR 50325 (September 8, 2021) (Amended Final).

¹⁰ For a full discussion of this practice, see Antidumping and Countervailing Duty Proceedings: Assessment of Antidumping Duties, 68 FR 23954 (May 6, 2003).

For the companies which were not selected for individual review, we intend to assign an assessment rate based on the review-specific average rate, calculated as noted in the “Preliminary Results of Review” section, above. The final results of this review shall be the basis for the assessment of antidumping duties on entries of merchandise covered by this review and for future deposits of estimated duties, where applicable.¹¹

¹¹ See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the finals results of this administrative review, as provided by section 751(a)(2)(C) of the Act: (1) The cash deposit rate for the companies under review will be equal to the weighted-average dumping margin established in the final results of this review, except if the rate is de minimis within the meaning of 19 CFR 351.106(c)(1) (i.e., less than 0.50 percent), in which case the cash deposit rate will be zero; (2) for previously reviewed or investigated companies not in this review, the cash deposit rate will continue to be the company-specific rate published for the most recently-completed segment of this proceeding in which they were examined; (3) if the exporter is not a firm covered in this review, a prior review, or the original LTFV investigation, but the producer is, the cash deposit rate will be the rate established for the most recently-completed segment of this proceeding for the producer of the merchandise; and (4) the cash deposit rate for all other producers or exporters will continue to be 7.00 percent,¹² the all-others rate established in the amended final determination of the LTFV investigation. These cash deposit requirements, when imposed, shall remain in effect until further notice.

¹² See Amended Final, 86 FR at 50326.

Disclosure and Public Comment

We intend to disclose the calculations performed to parties within five days after public announcement of the preliminary results.¹³ Pursuant to 19 CFR 351.309(c), interested parties may submit case briefs no later than 30 days after the date of publication of this notice. Rebuttal briefs, limited to issues raised in the case briefs, may be filed not later than seven days after the date for filing case briefs.¹⁴ Parties who submit case briefs or rebuttal briefs in this proceeding are encouraged to submit with each argument: (1) A statement of the issue; (2) a brief summary of the argument; and (3) a table of authorities.¹⁵ Case and rebuttal briefs should be filed using ACCESS ¹⁶ and must be served on interested parties.¹⁷ Executive summaries should be limited to five pages total, including footnotes. Note that Commerce has modified certain of its requirements for serving documents containing business proprietary information until further notice.¹⁸

¹³ See 19 CFR 351.224(b).

¹⁴ See 19 CFR 351.309(c)(1)(ii) and 351.309(d)(1); see also Temporary Rule Modifying AD/CVD Service Requirements Due to COVID-19; Extension of Effective Period, 85 FR 41363 (July 10, 2020) (Temporary Rule).

¹⁵ See 19 CFR 351.309(c)(2) and (d)(2).

¹⁶ See generally 19 CFR 351.303.

¹⁷ See 19 CFR 351.303(f).

¹⁸ See Temporary Rule.

Interested parties who wish to request a hearing must do so within 30 days of publication of these preliminary results by submitting a written request to the Assistant Secretary for Enforcement and Compliance using Enforcement and Compliance's ACCESS system.¹⁹ Requests should contain the party's name, address, and telephone number, the number of participants, whether any participant is a foreign national, and a list of the issues to be discussed. Issues raised in the hearing will be limited to those raised in the respective case and rebuttal briefs.²⁰ Parties are reminded that all briefs and hearing requests must be filed electronically using ACCESS and received successfully in their entirety by 5:00 p.m. Eastern Time on the due date.

¹⁹ See 19 CFR 351.310(c).

²⁰ See 19 CFR 351.310.

Final Results of Review

Unless otherwise extended, Commerce intends to issue the final results of this administrative review, including the results of its analysis of the issues raised in any written briefs, not later than 120 days after the date of publication of this notice, pursuant to section 751(a)(3)(A) of the Act and 19 CFR 351.213(h)(1).

Notification to Importers

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

This administrative review and notice are issued and published in accordance with sections 751(a)(1) and 777(i)(1) of the Act, and 19 CFR 351.213 and 351.221(b)(4).

Dated: October 29, 2021.
Ryan Majerus,
Deputy Assistant Secretary for Policy and Negotiations, performing the non-exclusive functions and duties of the Assistant Secretary for Enforcement and Compliance.

Appendix I

List of Topics Discussed in the Preliminary Decision Memorandum

I. Summary

II. Background

III. Scope of the Order

IV. Preliminary Successor-In-Interest Determination

V. Partial Rescission of Review

VI. Rate for Non-Selected Companies

VII. Discussion of the Methodology

VIII. Recommendation

Appendix II

Companies for Which the Review Request Was Withdrawn and for Which Commerce Is Rescinding This Review

1. Arien Global

2. Armstrong International Pvt. Ltd.

3. Avini Metal Limited

4. Bee Gee Enterprises

5. Bsl Freight Solutions Pvt., Ltd.

6. CD Industries (Prop. Kisaan Engineering Works Pvt. Ltd.)

7. Cipriani Harrison Valves Pvt. Ltd.

8. CTL Logistics (India) Pvt. Ltd.

9. Echjay Forgings Pvt. Ltd.

10. Fivebros Forgings Pvt. Ltd.

11. Fluid Controls Pvt. Ltd.

12. Geodis Oversea Pvt., Ltd.

13. Globelink WW India Pvt., Ltd.

14. Good Luck Engineering Co.

15. Goodluck India Ltd.

16. Hilton Metal Forging Limited

17. Kunj Forgings Pvt. Ltd.

18. Montane Shipping Pvt., Ltd.

19. Noble Shipping Pvt. Ltd.

20. Paramount Forge

21. Pashupati Ispat Pvt. Ltd.

22. Pashupati Tradex Pvt., Ltd.

23. Peekay Steel Castings Pvt. Ltd.

24. Pradeep Metals Ltd.

25. R D Forge Pvt., Ltd.

26. Rolex Fittings India Pvt. Ltd.

27. Rollwell Forge Pvt. Ltd.

28. Safewater Lines (I) Pvt. Ltd.

29. Saini Flange Pvt. Ltd.

30. SAR Transport Systems

31. Shilpan Steelcast Pvt. Ltd.

32. Teamglobal Logistics Pvt. Ltd.

33. Technical Products Corporation

34. Technocraft Industries India Ltd.

35. Transworld Global Logistics Solutions (India) Pvt. Ltd.

36. VEEYES Engineering Pvt. Ltd.

37. Vishal Shipping Agencies Pvt. Ltd.

38. Yusen Logistics (India) Pvt. Ltd

Appendix III

List of Companies Not Selected for Individual Examination

Ae Engineers & Exporters

Balkrishna Steel Forge Pvt. Ltd.

BFN Forgings Private Limited (former name Bebitz Flanges Works Private Limited) ²¹

²¹ We preliminary find BFN Forgings Private Limited to be the successor-in-interest to Bebitz Flanges Works Private Limited.

Broadway Overseas Ltd.

Dongguan Good Luck Furniture Industrial Co., Ltd.

DSV Air and Sea Pvt. Ltd.

DSV Logistics

G.I. Auto Pvt. Ltd.

Jai Auto Pvt. Ltd.

Jay Jagdamba Forgings Private Limited

Jay Jagdamba Limited ²²

²² We also initiated a review of this company under the name “Jay Jagdamba Ltd.” We are treating these companies as the same entity for purposes of this segment of the proceeding.

Jay Jagdamba Profile Private Limited

Katariya Steel Distributors

Lotus CNC Components

Motor Aids

Shree Jay Jagdamba Flanges Private Limited

Transworld Enterprises

Transworld Group

Viraj Profiles Ltd.

[FR Doc. 2021-24078 Filed 11-3-21; 8:45 am]

BILLING CODE 3510-DS-P